DEPARTMENT OF THE INTERIOR

Office of Surface Mining Reclamation and Enforcement

30 CFR Part 924

[SATS No. MS-024-FOR; Docket No. OSMRE-2014-0005; S1D1SS S08011000 SX066A00067F144S180110; S2D2SS S08011000SX066A00033F14XS501520]

Mississippi Abandoned Mine Land Plan

AGENCY: Office of Surface Mining Reclamation and Enforcement, Interior.

ACTION: Proposed rule; public comment period and opportunity for public hearing.

SUMMARY: We, the Office of Surface Mining Reclamation and Enforcement (OSMRE), are announcing receipt of a proposed amendment to the Mississippi Abandoned Mine Land Reclamation (AMLR) Plan (hereinafter, the Mississippi Plan) under the Surface Mining Control and Reclamation Act of 1977 (SMCRA or the Act). Mississippi has requested concurrence from the Secretary of the Department of the Interior with its certification of completion of all coal-related reclamation objectives. If the Secretary concurs with the certification, Mississippi intends to request AMLR funds to pursue projects in accordance with section 411 of SMCRA.

This document gives the times and locations that the Mississippi Plan and this proposed amendment to that plan are available for your inspection, the comment period during which you may submit written comments on the amendment, and the procedures that we will follow for the public hearing, if one is requested.

DATES: We will accept written comments on this amendment until 4:00 p.m., c.d.t., December 12, 2014. If requested, we will hold a public hearing on the amendment on December 8, 2014. We will accept requests to speak at a hearing until 4:00 p.m., c.d.t. on November 28, 2014.

ADDRESSES: You may submit comments, identified by SATS No. MS-024-FOR, by any of the following methods:

• Mail/Hand Delivery: Sherry Wilson, Director, Birmingham Field Office, Office of Surface Mining Reclamation and Enforcement, 135 Gemini Circle, Suite 215, Homewood, Alabama 35209; Telephone: (205) 290-7282.

• Fax: (205) 290-7280.

• Federal eRulemaking Portal: http://www.regulations.gov. Follow the instructions for submitting comments.

Instructions: All submissions received must include the agency name and docket number for this rulemaking. For detailed instructions on submitting comments and additional information on the rulemaking process, see the “Public Comment Procedures” heading of the SUPPLEMENTARY INFORMATION section of this document.

Docket: For access to the docket to review copies of the Mississippi Plan, a listing of any scheduled public hearings, and all written comments received in response to this document, you must go to the address of our Birmingham Field Office listed above during normal business hours, Monday through Friday, excluding holidays. You may receive one free copy of the amendment by contacting OSMRE's Birmingham Field Office or going to www.regulations.gov.

Sherry Wilson, Director, Birmingham Field Office, Office of Surface Mining Reclamation and Enforcement, 135 Gemini Circle, Suite 215, Homewood, Alabama 35209, Telephone: (205) 290-7282, Email: swilson@osmre.gov.

In addition, you may review a copy of the amendment during regular business hours at the following location:

Mississippi Office of Geology, Department of Environmental Quality, 700 N. State Street Jackson, Mississippi 39202, Telephone: (601) 961-5519.

FOR FURTHER INFORMATION CONTACT: Sherry Wilson, Director, Birmingham Field Office. Telephone: (205) 290-7282. Email: swilson@osmre.gov.

SUPPLEMENTARY INFORMATION:

I. Background on Mississippi Plan

II. Description of the Proposed Amendment

III. Public Comment Procedures

IV. Procedural Determinations

I. Background on the Mississippi Plan

The Abandoned Mine Land Reclamation Program was established by Title IV of the Act, (30 U.S.C. 1201 et seq.) in response to concerns over extensive environmental damage caused by past coal mining activities. The program is funded by a reclamation fee collected on each ton of coal that is produced. The money collected is used to finance the reclamation of abandoned coal mines and for other authorized activities. Section 405 of the Act allows States and Indian tribes to assume exclusive responsibility for reclamation activity within the State or on Indian lands if they develop and submit to the Secretary of the Interior for approval, a program (often referred to as a plan) for the reclamation of abandoned coal mines. On September 27, 2007, the Secretary of the Interior approved the Mississippi plan. You can find background information on the Mississippi Plan, including the Secretary's findings, the disposition of comments, and the approval of the plan in the September 27, 2007, Federal Register (72 FR 54832). No amendments have previously been made to the Mississippi Plan.

II. Description of the Proposed Mississippi Amendment

By letter dated August 11, 2014 (Administrative Record No. MS-0424), Mississippi indicated to OSMRE that it has instituted the necessary processes to reclaim the remaining coal related problems within the State. As such, Mississippi seeks certification of completion of all coal-related problems. If this request is approved by OSMRE, it will mark the addressing, for the present, of all known existing coal-related problems within the State that are eligible for funding under Mississippi's AMLR Program.

If approved, the certificate of completion will be codified at 30 CFR 924.25. In accordance with 30 CFR 875.13(c), Mississippi may then implement a program under Section 411 of SMCRA.

OSMRE is seeking public comment on the adequacy of Mississippi's certification that it has addressed all reclamation relating to abandoned coal mine lands. In addition, OSMRE is aware of the potential for problems to occur in the future related to pre-August 3, 1977, coal mining. In accordance with 30 CFR 875.13(a)(3), Mississippi agrees to acknowledge and give top priority to any coal-related problem(s) that may be found or occur after submission of the certificate of completion.

The full text of the plan amendment is available for you to read at the locations listed above under ADDRESSES or at www.regulations.gov.

III. Public Comment Procedures

Under the provisions of 30 CFR 884.15(a), we are seeking your comments on whether Mississippi's proposed amendment satisfies the applicable reclamation plan approval criteria of 30 CFR 884.14. If we approve the amendment, it will become part of the Mississippi Plan.

Electronic or Written Comments

If you submit written comments, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent State or Federal laws or regulations, technical literature, or other relevant publications.

We cannot ensure that comments received after the close of the comment period (see DATES) or sent to an address other than those listed (see ADDRESSES) will be included in the docket for this rulemaking and considered.

Public Availability of Comments

Before including your address, phone number, email address, or other personal identifying information in your comment, you should be aware that your entire comment including your personal identifying information may be made publicly available at any time. While you can ask us in your comment to withhold your personal identifying information from public review, we cannot guarantee that we will be able to do so.

Public Hearing

If you wish to speak at the public hearing, contact the person listed under FOR FURTHER INFORMATION CONTACT by 4:00 p.m., c.d.t. on November 28, 2014. If you are disabled and need reasonable accommodations to attend a public hearing, contact the person listed under FOR FURTHER INFORMATION CONTACT. We will arrange the location and time of the hearing with those persons requesting the hearing. If no one requests an opportunity to speak, we will not hold a hearing.

To assist the transcriber and ensure an accurate record, we request, if possible, that each person who speaks at the public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

Public Meeting

If only one person requests an opportunity to speak, we may hold a public meeting rather than a public hearing. If you wish to meet with us to discuss the amendment, please request a meeting by contacting the person listed under FOR FURTHER INFORMATION CONTACT. All such meetings are open to the public; if possible, we will post notices of meetings at the locations listed under ADDRESSES. We will make a written summary of each meeting a part of the administrative record.

IV. Procedural Determinations

Executive Order 12866—Regulatory Planning and Review

This rule is exempted from review by the Office of Management and Budget (OMB) under Executive Order 12866.

Other Laws and Executive Orders Affecting Rulemaking

The Federal regulations at 30 CFR 884.14(a) list the requirements that must be met in order for OSMRE to approve a State reclamation plan amendment or revision if it changes the objectives, scope, or major policies followed by the State in the conduct of its reclamation program. Following our review of the proposed amendment or revision, we will also make the determinations and certifications required by the various laws and executive orders governing the rulemaking process and include them in the final rule.

List of Subjects in 30 CFR Part 924

Intergovernmental relations, Surface mining, Underground mining.

Dated: August 28, 2014.
William L. Joseph,
Acting Regional Director, Mid-Continent Region.

[FR Doc. 2014-26656 Filed 11-10-14; 8:45 am]

BILLING CODE 4310-05-P